DEPARTMENT OF COMMERCE

International Trade Administration

[A-580-839]

Certain Polyester Staple Fiber From the Republic of Korea: Preliminary Results of Changed Circumstances Review

AGENCY: Enforcement and Compliance, International Trade Administration, Department of Commerce.

SUMMARY: In response to a request from Toray Chemical Korea Inc. (Toray), a producer/exporter of certain polyester staple fiber (PSF) from the Republic of Korea (Korea), and pursuant to section 751(b) of the Tariff Act of 1930, as amended (the Act), and 19 CFR 351.216, the Department of Commerce (Department) preliminarily determines that Toray is the successor-in-interest to Woongjin Chemical Co., Ltd (Woongjin). We invite interested parties to comment on these preliminary results.

DATES: Effective Date: October 20, 2014.

FOR FURTHER INFORMATION CONTACT: Austin Redington at (202) 482-1664 or Nancy Decker at (202) 482-0196, AD/CVD Operations, Office I, Enforcement and Compliance, International Trade Administration, U.S. Department of Commerce, 14th Street and Constitution Avenue NW., Washington, DC 20230.

SUPPLEMENTARY INFORMATION:

Background

On May 25, 2000, the Department published notice of the antidumping duty order on PSF from Korea in the Federal Register.¹ On July 2, 2014, Toray requested that the Department conduct a changed circumstances review pursuant to section 751(b)(1) of the Act and 19 CFR 351.216(b) to determine whether it is the successor-in-interest to Woongjin for purposes of the Order.² We received no comments from other interested parties.

¹ See Notice of Amended Final Determination of Sales at Less Than Fair Value: Certain Polyester Staple Fiber From the Republic of Korea and Antidumping Duty Orders: Certain Polyester Staple Fiber From the Republic of Korea and Taiwan, 65 FR 33807 (May 25, 2000) (Order).

² See Letter from Toray, “Certain Polyester Staple Fiber from the Republic of Korea” (July 2, 2014) (CCR Request).

On August 13, 2014, the Department initiated a changed circumstances review explaining that, while there was sufficient evidence to initiate a successor-in-interest review, it was necessary for the Department to request additional information for this review as provided by 19 CFR 351.221(b)(2).³ On August 18, 2014, the Department issued a supplemental questionnaire to Toray, to which Toray responded on September 4, 2014.⁴ We received no comments from other interested parties concerning Toray's questionnaire response.

³ See Certain Polyester Staple Fiber From the Republic of Korea: Initiation of Changed Circumstances Review, 79 FR 49285 (August 20, 2014).

⁴ See Letter from Toray, “Certain Polyester Staple Fiber from the Republic of Korea: Questionnaire Response” (September 4, 2014) (Toray's Questionnaire Response).

Scope of the Order

The product covered by the order is certain PSF. The merchandise subject to this order is classified in the HTSUS at subheadings 5503.20.00.40 and 5503.20.00.60. Although the HTSUS subheadings are provided for convenience and customs purposes, the written description of this order is dispositive.

A complete description of the scope of the order is contained in the Preliminary Decision Memorandum.⁵ The Preliminary Decision Memorandum is a public document and is on file electronically via Enforcement and Compliance's Antidumping and Countervailing Duty Centralized Electronic Service System (IA ACCESS). IA ACCESS is available to registered users at http://iaaccess.trade.gov, and IA ACCESS is available to all parties in the Central Records Unit, room 7046 of the main Department of Commerce building. In addition, a complete version of the Preliminary Decision Memorandum can be accessed directly at http://enforcement.trade.gov/frn/index.html. The signed Preliminary Decision Memorandum and the electronic versions of the Preliminary Decision Memorandum are identical in content.

⁵ See Memorandum to Paul Piquado, Assistant Secretary for Enforcement and Compliance, “Decision Memorandum for Preliminary Results of Changes Circumstances Review: Certain Polyester Staple Fiber from the Republic of Korea” (Preliminary Decision Memorandum), dated concurrently with and hereby adopted by this notice.

Methodology

In accordance with section 751(b)(1) of the Act, we are conducting this changed circumstances review based upon the information contained in Toray's submissions.⁶ In making a successor-in-interest determination, the Department typically examines several factors including, but not limited to, changes in: (1) Management; (2) production facilities; (3) supplier relationships; and (4) customer base.⁷ While no single factor or combination of factors will necessarily be dispositive, the Department generally will consider the new company to be the successor to the predecessor if the resulting operations of the successor are not materially dissimilar to that of its predecessor.⁸ Thus, if the record demonstrates that, with respect to the production and sale of the subject merchandise, the new company operates as the same business entity as the predecessor company, the Department may assign the new company the cash deposit rate of its predecessor.⁹ For a full description of the methodology underlying our conclusions, see the Preliminary Decision Memorandum.

⁶ See CCR Request; Toray's Questionnaire Response.

⁷ See, e.g., Certain Activated Carbon From the People's Republic of China: Notice of Initiation of Changed Circumstances Review, 74 FR 19934, 19935 (April 30, 2009).

⁸ See, e.g., Notice of Initiation of Antidumping Duty Changed Circumstances Review: Certain Forged Stainless Steel Flanges from India, 71 FR 327, 327 (January 4, 2006).

⁹ See, e.g., Fresh and Chilled Atlantic Salmon From Norway; Final Results of Changed Circumstances Antidumping Duty Administrative Review, 64 FR 9979, 9980 (March 1, 1999).

Preliminary Results of the Changed Circumstances Review

Based on the evidence reviewed, we preliminarily determine that Toray is the successor-in-interest to Woongjin. Specifically, we find that the change of the company name from “Woongjin Chemical Co., Ltd” to “Toray Chemical Korea Inc.” resulted in no material changes to management, production facilities, supplier relationships, customer relationships, or ownership/legal structure with respect to the production and sale of the subject merchandise. Thus, we preliminarily determine that Toray operates as the same business entity as Woongjin with respect to the subject merchandise. A list of topics discussed in the Preliminary Decision Memorandum appears in the Appendix to this notice.

If the Department upholds these preliminary results in the final results, Toray will be assigned the cash deposit rate currently assigned to Woongjin with respect to the subject merchandise (i.e., the 2.13 percent cash deposit rate currently assigned to Woongjin).¹⁰ If these preliminary results are adopted in the final results of this changed circumstances review, we will instruct U.S. Customs and Border Protection to suspend liquidation of entries of PSF made by Toray, effective on the publication date of the final results, at the cash deposit rate assigned to Woongjin.

¹⁰ See Notice of Amended Final Results of Antidumping Duty Administrative Review: Certain Polyester Staple Fiber from Korea, 69 FR 67891, 67891 (November 22, 2004) (providing weighted-average dumping margin for Woongjin's predecessor, Seahan Industries, Inc.); see also Notice of Final Results of Changed Circumstances Antidumping Duty Review: Certain Polyester Staple Fiber from the Republic of Korea, 73 FR 49168 (August 20, 2008) (finding Woongjin as successor-in-interest to Seahan Industries, Inc.).

Public Comment

Interested parties may submit case briefs not later than 30 days after the date of publication of this notice in the Federal Register.¹¹ Rebuttal briefs, limited to issues raised in the case briefs, may be filed no later than five days after the case briefs are filed.¹² Parties that submit case or rebuttal briefs are encouraged to submit with each argument: (1) A statement of the issue; (2) a brief summary of the argument; and (3) a table of authorities. All briefs are to be filed electronically using IA ACCESS.¹³ An electronically filed document must be received successfully in its entirety by IA ACCESS by 5:00 p.m. Eastern Time on the day on which it is due.¹⁴

¹¹ See 19 CFR 351.309(c)(1)(ii).

¹² See 19 CFR 351.309(d)(1).

¹³ See 19 CFR 351.303(b) and (f).

¹⁴ See 19 CFR 351.303(b).

Interested parties who wish to request a hearing, or to participate in one if one is requested, must submit a written request to the Assistant Secretary for Enforcement and Compliance using IA ACCESS within 30 days after the date of publication of this notice in the Federal Register.¹⁵ Requests should contain the party's name, address, and telephone number, the number of participants, and a list of the issues to be discussed. Oral presentations will be limited to issues raised in the case and rebuttal briefs. If a request for a hearing is made, we will inform parties of the scheduled date for the hearing, which will be held at the U.S. Department of Commerce, 14th Street and Constitution Avenue NW., Washington, DC 20230, at a time and location to be determined.¹⁶ Parties should confirm by telephone the date, time, and location of the hearing.

¹⁵ See 19 CFR 351.310(c).

¹⁶ See 19 CFR 351.310.

Final Results of the Review

In accordance with 19 CFR 351.216(e), the Department intends to issue the final results of this changed circumstances review not later than 270 days after the date on which the review is initiated, or within 45 days if all parties agree to our preliminary finding.

Notification to Interested Parties

This notice is issued and published in accordance with sections 751(b)(l) and 777(i)(l) of the Act.

Dated: October 14, 2014.
Paul Piquado,
Assistant Secretary for Enforcement and Compliance.

Appendix—List of Topics Discussed in the Preliminary Decision Memorandum

I. Summary

II. Background

III. Scope of the Order

IV. Preliminary Results of Changed Circumstances Review

V. Recommendation

[FR Doc. 2014-24907 Filed 10-17-14; 8:45 am]

BILLING CODE 3510-DS-P